DEPARTMENT OF JUSTICE

Notice of Lodging of Consent Decree Under the Comprehensive Environmental Response, Compensation, and Liability Act

Notice is hereby given that on May 25,2010, a proposed Consent Decree (“Decree”) in United States v. Sensient Colors Inc., Civil Action No.07cv1275, was lodged with the United States District Court for the District of New Jersey.

The Decree resolves claims of the United States against Sensient Colors Inc. (“Sensient”) under the Comprehensive Environmental Response, Compensation and Liability Act of 1980, 42 U.S.C. 9601-9675, for recovery of costs incurred by the United States Environmental Protection Agency (“EPA”) in connection with Sensient's ownership and operation of a pigment and dye manufacturing facility known as the General Color Site (“Site”), located in Camden, New Jersey. The Decree requires Sensient to pay $7,100,000 to the United States in reimbursement of costs incurred by EPA at the Site.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States v. Sensient Colors Inc., Civil Action No. 07cv1275 D.N.J.), D.J. Ref. 90-11-3-08690.

The Decree may be examined at the Office of the United States Attorney, District of New Jersey, Camden Office, 401 Market Street, 4th Floor, Camden, New Jersey 08101, and at U.S. EPA Region II, U.S. Environmental Protection Agency, 290 Broadway, New York, New York 10007. During the public comment period, the Decree may also be examined on the following Department of Justice Web site http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-13128 Filed 6-1-10; 8:45 am]

BILLING CODE 4410-15-P